COMMITTEE FOR PURCHASE FROM PEOPLE WHO ARE BLIND OR SEVERELY DISABLED

Procurement List Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products previously furnished by such agencies.

Comments Must be Received On or Before: August 11, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Pen, Free Ink, Rollerball, Needle Point.

7520-00-NIB-1538 (Black 5mm).

7520-00-NIB-1539 (Black 7mm).

7520-00-NIB-1540 (Blue 5mm).

7520-00-NIB-1541 (Blue 7mm).

7520-00-NIB-1542 (Red 5mm).

7520-00-NIB-1543 (Red 7mm).

NPA: San Antonio Lighthouse, San Antonio, Texas.

Contract Activity: Office Supplies & Paper Products Acquisition Center, New York, New York.

Services

Service Type/Location: Food Service Attendant

Dakota Inn (Flight Kitchen and Alert Facility), Minot AFB, North Dakota.

NPA: MVW Services, Inc., Minot, North Dakota.

Contract Activity: Department of the Air Force, Minot AFB, North Dakota.

Service Type/Location: Grounds Maintenance

USCG Chief of Staff Quarters, Bethesda, Maryland

USCG Commandant Quarters, Kenwood, Maryland

USCG Vice Commandant Quarters, Bethesda, Maryland

NPA: The Arc of Montgomery County, Inc., Rockville, Maryland.

Contract Activity: USCG Headquarters HSC A-3, Washington, DC

Service Type/Location: Janitorial/Custodial

Air Traffic Control Tower (Midway Airport), Chicago, Illinois.

NPA: Jewish Vocational Service & Employment Center, Chicago,Illinois.

Contract Activity: Federal Aviation Administration, Des Plaines, Illinois

Service Type/Location: Janitorial/Custodial

FAA Chicago/Tracon, Elgin, Illinois.

NPA: Jewish Vocational Service & Employment Center, Chicago, Illinois.

Contract Activity: Federal Aviation Administration, Des Plaines, Illinois.

Service Type/Location: Janitorial/Custodial

VA Greater Los Angeles Regional Healthcare System.

Consolidated Mail Outpatient Pharmacy.

Los Angeles, California.

NPA: Job Options, Inc., San Diego, California.

Contract Activity: Department of Veterans Affairs, Long Beach, California.

Service Type/Location: Laundry Service

National Training Center.

Fort Irwin, California.

NPA: Job Options, Inc., San Diego, California.

Contract Activity: Department of the Army, Fort Irwin, California.

Service Type/Location: Switchboard Operation

VA Health Care Center, San Diego, California.

NPA: PRIDE Industries, Roseville, California.

Contract Activity: VA Health Care System (664/NBC), San Diego, California.

Service Type/Location: Telephone Answering Service

Naval Medical Center, San Diego, California.

NPA: National Telecommuting Institute, Inc., Boston, Massachusetts.

Contract Activity: Naval Medical Center, San Diego, California.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the commodities and services to the Government.

3. There are no known regulatory alternatives which would accomplish the objectives of the Javits-Wagner-O'Day Act (41 U.S.C. 46-48c) in connection with the products proposed for deletion from the Procurement List.

The following products have been proposed for deletion from the Procurement List:

Products

Product/NSN: Strainer/M.R. 818.

Product/NSN: Strainer and Pastry Brush/M.R. 817.

Product/NSN: Strainer and Pastry Brush/M.R. 829.

NPA: Alabama Industries for the Blind, Talladega, Alabama.

Product/NSN: Bowl, Deodorizer/M.R. 503.

Product/NSN: Bowl, Deodorizer/M.R. 504.

NPA: Tampa Lighthouse for the Blind, Tampa, Florida.

Product/NSN: Cutlery, Heavy Duty/M.R. 597.

NPA: Ho'opono Workshop for the Blind, Honolulu, Hawaii.

NPA: MidWest Enterprises for the Blind, Inc., Kalamazoo, Michigan.

NPA: L.C. Industries For The Blind, Inc., Durham, North Carolina.

NPA: The Lighthouse for the Blind, Inc., Seattle, Washington.

NPA: Industries for the Blind, Inc., Milwaukee, Wisconsin.

Product/NSN: Potpourri/M.R. 404.

NPA: Envision, Inc., Wichita, Kansas.

Product/NSN: Broom, Corn/M.R. 960.

Product/NSN: Mop, Deck/M.R. 961.

Product/NSN: Refill, Mop, Dust/M.R. 985.

NPA: Mississippi Industries for the Blind, Jackson, Mississippi.

Product/NSN: Air Deodorizer, Push-Up, Floral Spring/M.R. 506.

Product/NSN: Air Deodorizer, Push-up, Lemon/M.R. 507.

NPA: Lighthouse for the Blind, St. Louis, Missouri.

Product/NSN: Aqua Plunger Mop/M.R. 1026.

NPA: ISIGHT, Inc., Las Vegas, Nevada.

NPA: L.C. Industries For The Blind, Inc., Durham, North Carolina.

Product/NSN: Brush, Duster/M.R. 913.

Product/NSN: Gloves, Latex/M.R. 516.

Product/NSN: Gloves, Latex/M.R. 517.

Product/NSN: Gloves, Latex/M.R. 518.

NPA: New York City Industries for the Blind, Brooklyn, New York.

Product/NSN: Mop, Sponge, Block/M.R. 990.

Product/NSN: Sac Saver/M.R. 1010.

NPA: L.C. Industries For The Blind, Inc., Durham, North Carolina.

Product/NSN: Broom, Mixed Fiber/M.R. 901.

Product/NSN: Fabric Softener Sheets, Reusable/M.R. 519.

Product/NSN: Refill, Mop, Dust/M.R. 985.

NPA: Industries of the Blind, Inc., Greensboro, North Carolina.

Product/NSN: Apron, Child, Painted Design/M.R. 780.

NPA: Lions Industries for the Blind, Inc., Kinston, North Carolina.

Product/NSN: Character Lunch Bags/M.R. 402.

Product/NSN: Master Baster/M.R. 802.

Product/NSN: Soap Shipper/M.R. 431.

NPA: Winston-Salem Industries for the Blind, Winston-Salem, North Carolina.

Product/NSN: Kitchen, Utensils/M.R. 848.

NPA: Cincinnati Association for the Blind, Cincinnati, Ohio.

Product/NSN: Bag, Canvas/M.R. 701.

NPA: Lions Volunteer Blind Industries, Inc., Morristown, Tennessee.

Product/NSN: Clothspin, Plastic/M.R. 570.

NPA: Dallas Lighthouse for the Blind, Inc., Dallas, Texas.

Product/NSN: Cleaner, All Purpose/M.R. 510.

NPA: The Lighthouse of Houston, Houston, Texas.

Product/NSN: Cover, Ironing Board/M.R. 965.

Product/NSN: Pad, Microwave/M.R. 562.

Product/NSN: Pad, Replacement, Handle Scrubber/M.R. 540.

Product/NSN: Pad, Replacement, Handle Scrubber/M.R. 545.

Product/NSN: Pad, Replacement, Handle Scrubber/M.R. 546.

Product/NSN: Pad, Scouring/M.R. 547.

Product/NSN: Scrubber/M.R. 542.

NPA: Beacon Lighthouse, Inc., Wichita Falls, Texas.

Product/NSN: Broom, Upright/M.R. 951.

Product/NSN: Broom, Whisk/M.R. 910.

Product/NSN: Brush, Duster/M.R. 913.

Product/NSN: Executive Twist Pen Shipper/M.R. 009.

NPA: Industries for the Blind, Inc., Milwaukee, Wisconsin.

Product/NSN: Dog Bones/M.R. 405.

Product/NSN: Dog Bones/M.R. 406.

Product/NSN: Dog Bones/M.R. 407.

Product/NSN: Dog Bones/M.R. 408.

Product/NSN: Dog Bones/M.R. 409.

Product/NSN: Dog Bones/M.R. 410.

Product/NSN: Dog Bones/M.R. 411.

NPA: Wiscraft Inc.—Wisconsin Enterprises for the Blind, Milwaukee, Wisconsin.

Product/NSN: Brush, Bottle/M.R. 956.

Product/NSN: Brush, Pastry and Basting/M.R. 959.

Product/NSN: Cover, Ironing Board/M.R. 964.

Product/NSN: Handle, Mop, Spring Lever/M.R. 920.

Product/NSN: Kitchen, Utensils/M.R. 828.

Product/NSN: Kitchen, Utensils/M.R. 850.

Product/NSN: Kitchen, Utensils/M.R. 860.

Product/NSN: Kitchen, Utensils/M.R. 862.

NPA: None currently authorized.

Contract Activity: Defense Commissary Agency (DeCA), Ft. Lee, Virginia, for all the Military Resale Products.

Product/NSN: Enamel/8010-01-336-3978.

NPA: Lighthouse for the Blind, St. Louis, Missouri.

Contract Activity: GSA, Hardware & Appliances Center, Kansas City, Missouri.

Sheryl D. Kennerly,
Director, Information Management.

[FR Doc. 02-17546 Filed 7-11-02; 8:45 am]

BILLING CODE 6353-01-P